Title 3—

The President

Proclamation 7888 of April 19, 2005

Education and Sharing Day, U.S.A., 2005

By the President of the United States of America

A Proclamation

As we enjoy the great freedoms of our country, we are mindful of our obligation to pass on to our children the values that sustain our liberty and our democracy. On Education and Sharing Day, we reaffirm our commitment to teach young people the lessons they need to preserve and strengthen our Nation, and to reach as far as their vision and character can take them.

Education and Sharing Day honors the memory of Rabbi Menachem Mendel Schneerson, the Lubavitcher Rebbe, who established education and outreach centers that offer social services and humanitarian aid around the world. Commemorating his life and legacy teaches the next generation that a single life of conscience and purpose can touch and lift up many lives. By helping to heal a broken heart, surrounding a friend with love, feeding the hungry, or providing shelter for the homeless, we can change America for the better, one heart, one soul, and one conscience at a time.

NOW, THEREFORE, I, GEORGE W. BUSH, President of the United States of America, by virtue of the authority vested in me by the Constitution and laws of the United States, do hereby proclaim April 20, 2005, as Education and Sharing Day, U.S.A. I call upon all our citizens to dedicate their time and talents to help our rising generation grow into caring and responsible adults.

IN WITNESS WHEREOF, I have hereunto set my hand this nineteenth day of April, in the year of our Lord two thousand five, and of the Independence of the United States of America the two hundred and twenty-ninth.

B

[FR Doc. 05-8161

Filed 4-20-05; 8:45 am]

Billing code 3195-01-P